DEPARTMENT OF TRANSPORTATION

National Highway Traffic Safety Administration

Petition for Exemption From the Federal Motor Vehicle Motor Theft Prevention Standard; Porsche

AGENCY: National Highway Traffic Safety Administration, Department of Transportation (DOT).

ACTION: Grant of petition for exemption.

SUMMARY: This document grants in full the petition of Porsche Cars North America, Inc. (Porsche) for an exemption in accordance with § 543.9(c)(2) of 49 CFR Part 543, Exemption from the Theft Prevention Standard, for the Porsche Panamera vehicle line beginning with model year (MY) 2010. This petition is granted because the agency has determined that the antitheft device to be placed on the line as standard equipment is likely to be as effective in reducing and deterring motor vehicle theft as compliance with the parts-marking requirements of the Theft Prevention Standard.

DATES: The exemption granted by this notice is effective beginning with model year (MY) 2010.

FOR FURTHER INFORMATION CONTACT: Ms. Deborah Mazyck, Office of International Policy, Fuel Economy and Consumer Standards, NHTSA, 1200 New Jersey Avenue, SE., Washington, DC 20590. Ms. Mazyck's phone number is (202) 366-0846. Her fax number is (202) 493-2290.

SUPPLEMENTARY INFORMATION: In a petition dated February 17, 2009, Porsche requested an exemption from the parts-marking requirements of the theft prevention standard (49 CFR Part 541) for the Porsche Panamera vehicle line beginning with MY 2010. The petition requested an exemption from parts-marking pursuant to 49 CFR 543, Exemption from Vehicle Theft Prevention Standard, based on the installation of an antitheft device as standard equipment for the entire vehicle line.

Under § 543.5(a), a manufacturer may petition NHTSA to grant an exemption for one vehicle line per model year. In its petition, Porsche provided a detailed description and diagram of the identity, design, and location of the components of the antitheft device for its new Porsche Panamera vehicle line. Porsche stated that all Porsche Panamera vehicles will be equipped with a passive antitheft device as standard equipment beginning with MY 2010. Key components of the antitheft device will include a microprocessor-based immobilizer system, electronic ignition switch, transponder key, remote control unit, alarm/central locking control unit, optional keyless entry system and electronic parking brake. The device will also be equipped with an audible and visible alarm. Additionally, Porsche stated that the central locking system works in conjunction with the audible and visible alarm. Locking the doors with the ignition key, the remote control or a door switch (with the keyless entry option) will activate the audible and visible alarm. An ultrasonic sensor in the alarm system will monitor the doors, rear luggage compartment, front deck lid, fuel filler door, and interior movement. The horn will sound and the lights will flash if there is any detection of unauthorized use. Porsche's submission is considered a complete petition as required by 49 CFR 543.7 in that it meets the general requirements contained in 543.5 and the specific content requirements of 543.6.

Porsche stated that its immobilizer prevents the engine management system and steering system from functioning when the system is engaged. The immobilizer is automatically activated when the key is removed from the ignition switch assembly, or the optional special keyless entry keycard exits the vehicle with the driver. The immobilizer then returns to its normal “off” state, where engine starting, operation, and steering are not allowed. Starting the engine and operation of the vehicle will be allowed only when the correct code is sent to the control unit by using the correct key in the ignition switch, or by having the correct keyless entry keycard within the occupant compartment of the car. The ignition key contains a radio signal transponder, which signals the control unit to allow steering and the engine to be started. With the keyless entry system, operation of the vehicle is allowed when the ignition key is substituted with the special keycard that contains a radio signal transmitter similar to the transponder in the standard ignition key.

The central locking system works in conjunction with the audible and visible alarm. Locking the doors with the ignition key, the remote control or a door switch (with the keyless entry option) will activate the audible and visible alarm.

Porsche will also equip the Panamera vehicle line with an electronically activated parking brake which it states is integrated into the vehicle's antitheft device. If the control unit does not receive the correct code from the ignition key or keycard, the parking brake will remain activated and the vehicle cannot be towed away.

Since the Porsche Panamera is a new vehicle line, there is currently no available theft rate data published by the agency for the vehicle line. However, Porsche provided data on the effectiveness of other similar antitheft devices installed on its 911 and Boxster vehicle lines in support of its belief that its device will be at least as effective as those comparable devices previously granted exemptions by the agency. Porsche's data showed that the theft rate for the two vehicle lines remained consistently low over a 3-year period. The average theft rate using three MY's data for the Porsche 911 and Boxster are 0.8261 and 0.8784 respectively. Based on the experience of these vehicle lines, Porsche has concluded that the antitheft device proposed for its Porsche Panamera vehicle line is no less effective than those devices in the lines for which NHTSA has already granted full exemption from the parts-marking requirements. The agency agrees that the device is substantially similar to devices in these and other vehicle lines for which the agency has already granted exemptions.

In addressing the specific content requirements of 543.6, Porsche provided information on the reliability and durability of its proposed device. To ensure reliability and durability of the device, Porsche conducted tests based on its own specified standards. Porsche provided a detailed list of the tests conducted (i.e., extreme temperature tests, voltage spike tests, reverse polarity tests, electromagnetic interference tests, vibration tests and endurance tests) and believes that the device is reliable and durable since the device complied with its specific requirements for each test. Additionally, Porsche stated that the antitheft device also features a built-in self-diagnostic that constantly checks for system failures. If a failure is detected, an alarm indicator signals the driver.

Porsche further states that disablement of the immobilizer is virtually impossible. Disconnecting power to the antitheft device does not affect the operation of the device. Once the antitheft device is activated, the device stays activated until the correct key or optional keycard is used to instruct the engine management system through code to begin functioning again. Porsche also stated that the immobilizer cannot be disabled by manipulation of the door locks or central-locking system because the locks/locking system are incapable of sending the code needed to disable the device.

In further support of the reliability of its antitheft device, Porsche informed the agency that it has developed a new “off-board” antitheft strategy to reduce the marketability of stolen electronic components. Specifically, Porsche stated that during the production of its vehicle, the initialization and registration of various antitheft electronic components are recorded in a central database. If the components have to be repaired or replaced, authorized access to the database must be obtained to receive authorization for the components. If authorized access to the central database is unavailable or the database indicates that the components are not authorized, further operation and use of the vehicle will be restricted or impossible to obtain.

Based on the evidence submitted by Porsche, the agency believes that the antitheft device for the Panamera vehicle line is likely to be as effective in reducing and deterring motor vehicle theft as compliance with the parts-marking requirements of the Theft Prevention Standard (49 CFR 541).

Pursuant to 49 U.S.C. 33106 and 49 CFR 543.7(b), the agency grants a petition for exemption from the parts-marking requirements of Part 541, either in whole or in part, if it determines that, based upon substantial evidence, the standard equipment antitheft device is likely to be as effective in reducing and deterring motor vehicle theft as compliance with the parts-marking requirements of Part 541. The agency finds that Porsche has provided adequate reasons for its belief that the antitheft device for the Porsche Panamera vehicle line is likely to be as effective in reducing and deterring motor vehicle theft as compliance with the parts-marking requirements of the Theft Prevention Standard (49 CFR Part 541). This conclusion is based on the information Porsche provided about its device.

The agency concludes that the device will provide the five types of performance listed in § 543.6(a)(3): Promoting activation; attracting attention to the efforts of unauthorized persons to enter or operate a vehicle by means other than a key; preventing defeat or circumvention of the device by unauthorized persons; preventing operation of the vehicle by unauthorized entrants; and ensuring the reliability and durability of the device.

For the foregoing reasons, the agency hereby grants in full Porsche's petition for exemption for the Porsche Panamera vehicle line from the parts-marking requirements of 49 CFR Part 541. The agency notes that 49 CFR Part 541, Appendix A-1, identifies those lines that are exempted from the Theft Prevention Standard for a given model year. 49 CFR Part 543.7(f) contains publication requirements incident to the disposition of all Part 543 petitions. Advanced listing, including the release of future product nameplates, the beginning model year for which the petition is granted and a general description of the antitheft device is necessary in order to notify law enforcement agencies of new vehicle lines exempted from the parts marking requirements of the Theft Prevention Standard.

If Porsche decides not to use the exemption for this line, it should formally notify the agency. If such a decision is made, the line must be fully marked according to the requirements under 49 CFR Parts 541.5 and 541.6 (marking of major component parts and replacement parts).

NHTSA notes that if Porsche wishes in the future to modify the device on which this exemption is based, the company may have to submit a petition to modify the exemption. Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on April 14, 2009.
Stephen R. Kratzke,
Associate Administrator for Rulemaking.

[FR Doc. E9-8951 Filed 4-17-09; 8:45 am]

BILLING CODE 4910-59-P